DEPARTMENT OF COMMERCE

National Oceanic and Atmospheric Administration

[I.D. 073103B]

Marine Mammals; File No. 881-1710

AGENCY: National Marine Fisheries Service (NMFS), National Oceanic and Atmospheric Administration (NOAA), Commerce.

ACTION: Issuance of permit.

SUMMARY: Notice is hereby given that Alaska SeaLife Center (ASLC), 301 Railway Avenue, Seward, AK 99664, (Shannon Atkinson, Ph.D., Principal Investigator) has been issued a permit to take harbor seals (Phoca vitulina) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Amy Sloan or Ruth Johnson, (301)713-2289.

SUPPLEMENTARY INFORMATION: On May 7, 2003, notice was published in the Federal Register (68 FR 24443) that a request for a scientific research permit to take the species identified above had been submitted by the above-named organization. The requested permit has been issued under the authority of the Marine Mammal Protection Act of 1972, as amended (16 U.S.C. 1361 et seq.), and the Regulations Governing the Taking and Importing of Marine Mammals (50 CFR part 216).

This permit authorizes collection of eight weaned harbor seals from the wild over a two to three year period in the Gulf of Alaska for long-term holding and research at the ASLC. A maximum of 30 capture attempts will occur per year, and during each capture attempt, up to 20 seals may incidentally be caught in nets and released, and up to 100 seals may be incidentally disturbed at the haul-out sites. Weaned female pups captured will be sampled in the wild as follows: sedation or anesthesia; body mass, morphometrics, and 3D photogrammetry; blood, blubber, whisker, and skin samples; body composition; flipper tagging and microchip implant; ultrasound; fecal and urine collection; skin and mucosal swabs; endoscopy; and disease screening.

Once at the ASLC the following will be performed on the harbor seals: monthly health assessments (as described in sampling above); hormone challenge experiments; weights and measurements; blood sampling; fecal and urine sampling; blubber ultrasound; bio-electrical impedance; total blood volume determination; deuterium oxide administration; feeding trials; mucosal swabs, saliva collection, examination of external genitalia; blubber biopsies; video, photographic, radiographic, digital, and thermal imaging; and anesthesia and sedation as deemed necessary by the attending veterinarian.

This study investigates the importance of lipids in the diets of harbor seals and the long-term effects of high and low lipid diets on the growth, development, maturity, and health of seals. The permit has been issued for a five-year period.

Dated: December 2, 2003.
Stephen L. Leathery,
Chief, Permits, Conservation and Education Division, Office of Protected Resources, National Marine Fisheries Service.

[FR Doc. 03-30488 Filed 12-8-03; 8:45 am]

BILLING CODE 3510-22-S